DEPARTMENT OF LABOR

Employment and Training Administration

[TA-W-65,433]

American Racing Equipment, LLC, Denver, CO; Notice of Negative Determination on Reconsideration

On May 11, 2009, the Department issued an Affirmative Determination Regarding Application for Reconsideration for the workers and former workers of the subject firm. The notice was published in the Federal Register on June 16, 2009 (74 FR 28552).

The initial investigation resulted in a negative determination based on the finding that imports of two-piece automotive wheels did not contribute importantly to worker separations at the subject firm and no shift of production to a foreign source occurred.

In the request for reconsideration, the petitioner alleged that the workers of the subject firm also supported production of cast, one piece wheels. The petitioner alleged that the subject firm shifted production of the cast, one piece wheels abroad and that there was an increase in imports of the cast, one piece wheels.

The Department of Labor contacted a company official to verify this information. The company official stated that the workers of the subject firm distributed the cast, one piece wheels which were mostly manufactured in China. The company official also stated that the subject firm ceased production of the cast, one piece wheels long before 2008 and that no cast, one piece wheels were manufactured by American Racing Equipment, LLC during the relevant period.

When assessing eligibility for Trade Adjustment Assistance, the Department exclusively considers production, shifts in production and import impact during the relevant time period (one year prior to the date of the petition). Therefore, events occurring prior to February 26, 2008, are outside of the relevant period and are not relevant in this investigation. The investigation revealed that workers of the subject firm did not manufacture the cast, one piece wheels and did not support production of the cast, one piece wheels at any affiliated domestic facility during the relevant period.

To support the allegation of a shift in production to China the petitioner attached an e-mail correspondence from an American Racing Equipment, LLC employee dated March 13, 2008.

Upon further analysis it was revealed that the document contains a review of the subject firm's sales for the month of February 2008. The letter also refers to the negative impact of bad winter conditions in China to the Chinese production which was the reason of reduced sales at the subject firm in February 2008.

The investigation revealed that the above mentioned document does not contain any information which supports the petitioner allegation regarding production of the cast, one piece wheels by workers of the subject firm or a shift in production of the cast, one piece wheels during the relevant period.

The petitioner also attached a letter dated June 29, 2007 signed by a company official.

Documents referring to the events which took place in 2007 are outside of the relevant time period and cannot be considered in this investigation.

The petitioner also attached a spreadsheet named “Salesperson Pace Report—Daily Needs”. The Department reviewed the document and determined that it does not contain any additional valid information as it relates to this determination.

Conclusion

After reconsideration, I affirm the original notice of negative determination of eligibility to apply for worker adjustment assistance for workers and former workers of American Racing Equipment, LLC, Denver, Colorado.

Signed at Washington, DC, this 26th day of June 2009.
Elliott S. Kushner,
Certifying Officer, Division of Trade Adjustment Assistance.

[FR Doc. E9-16630 Filed 7-13-09; 8:45 am]

BILLING CODE 4510-FN-P